DEPARTMENT OF ENERGY

Federal Energy Regulatory Commission

[Wilderness Line Holdings, LLC EG20-61-000; Cranell Wind Farm, LLC EG20-62-000; Oklahoma Wind, LLC EG20-63-000; Sooner Wind, LLC EG20-64-000; La Chalupa, LLC EG20-65-000; White Cloud Wind Project, LLC EG20-66-000; Outlaw Wind Project, LLC EG20-67-000; Oberon Solar IB, LLC EG20-68-000; Prospero Energy Project, LLC EG20-69-000; Pleasants LLC EG20-70-000; Blooming Grove Wind Energy Center LLC EG20-71-000; Enel Green Power Roadrunner Solar Project II, LLC EG20-72-000; Conrad (Ampthill) Limited FC20-1-000]

Notice of Effectiveness of Exempt Wholesale Generator and Foreign Utility Company Status

Take notice that during the month of March 2020, the status of the above-captioned entities as Exempt Wholesale Generators or Foreign Utility Companies became effective by operation of the Commission's regulations. 18 CFR 366.7(a) (2019).

Dated: April 2, 2020.
Nathaniel J. Davis, Sr.,
Deputy Secretary

[FR Doc. 2020-07362 Filed 4-7-20; 8:45 am]

BILLING CODE 6717-01-P